DEPARTMENT OF COMMERCE

National Oceanic and Atmospheric Administration

Proposed Information Collection; Comment Request; Fish and Seafood Promotion; Correction

AGENCY: National Oceanic and Atmospheric Administration (NOAA), Commerce.

ACTION: Correction.

SUMMARY: On April 3, 2013, a notice was published in the Federal Register (78 FR 20092) on the proposed information collection, Fish and Seafood Promotion. The information under the Data Section is corrected as follows:

Estimated time per response: 106 hours.

Estimated total annual burden hours: 318.

Estimated total annual cost to the public: $22.

All other information in the notice is correct and remains unchanged.

Dated: April 8, 2013.
Gwellnar Banks,
Management Analyst, Office of the Chief Information Officer.

[FR Doc. 2013-08567 Filed 4-11-13; 8:45 am]

BILLING CODE 3510-22-P